DEPARTMENT OF COMMERCE

National Technical Information Service

Request for Nominations for Members to Serve on the National Technical Information Service Advisory Board

AGENCY: National Technical Information Service; Department of Commerce.

ACTION: Notice.

SUMMARY: The National Technical Information Service (NTIS) is seeking five (5) qualified candidates to serve as members of its Advisory Board, one of whom will also be designated as chairperson. The Board will meet at least semiannually to advise the Secretary of Commerce and the Director of NTIS on NTIS's mission, plans, general policies and fee structure. NTIS is seeking candidates who can provide guidance on trends in the information industry as the result of technological change and on how NTIS can best adapt to these changes in meeting the needs of its customers.

DATES: Requests to be considered as a nominee should be received by May 3, 2010. Please include a resume and a statement of why you wish to be considered and what you believe you can contribute as a member.

SUPPLEMENTARY INFORMATION: The Board was established pursuant to Section 3704b(c) of Title 15, United States Code. Members will be appointed by the Secretary and will serve for three-year terms. They will receive no compensation but will be authorized travel and per diem expenses. Members are considered Special Government Employees and will be subject to all applicable ethics rules. They will be required to submit a financial disclosure statement.

FOR FURTHER INFORMATION CONTACT: Mr. Steven D. Needle, Designated Federal Officer, at the mailing address indicated below, by telephone at (703) 605-6404, or via e-mail at sneedle@ntis.gov. If submitting an inquiry via e-mail, please state “NTIS Advisory Board” in the subject line.

ADDRESSES: Completed requests to be considered as a nominee or requests for information should be sent to Mr. Steven D. Needle, Office of the Director, National Technical Information Service, 5301 Shawnee Road, Alexandria, VA 22312.

Dated: March 26, 2010.
Bruce Borzino,
Director.

[FR Doc. 2010-7414 Filed 3-31-10; 8:45 am]

BILLING CODE 3510-04-P